DEPARTMENT OF ENERGY

[Project Nos. 135-016 & 2195-008—Oregon]

Portland General Electric Company; Notice of Availability of Environmental Assessment

September 3, 2002.

In accordance with the National Environmental Policy Act of 1969 and the Federal Energy Regulatory Commission's (Commission) Regulations, 18 CFR part 380 (Order No. 486, 52 FR 47897), the Office of Energy Projects has reviewed the application for amendment of license for the Oak Grove Project No. 135 and North Fork Project No. 2195, located on the Oak Grove and Clackamas Rivers, in Clackamas County, Oregon, and has prepared an Environmental Assessment (EA) for the project. The project occupies Federal lands under the administration of the U.S. Forest Service and Bureau of Land Management.

The EA contains the staff's analysis of the potential environmental effects of Portland General Electric Company's proposed license amendment, and various alternatives, including no-action, and concludes that approving the amendment of license, with appropriate environmental measures, would not constitute a major Federal action that would significantly affect the quality of the human environment.

Any comments should be filed within 30 days from the date of this notice and should be addressed to Magalie R. Salas, Secretary, Federal Energy Regulatory Commission, 888 First Street, NE., Room 1-A, Washington, DC 20426. Please affix “Project No. 135 and 2195” to all comments. The EA is available for review at the Commission in the Public Reference Room or may be viewed on the Commission's web site at http://www.ferc.gov using the “FERRIS” link. Enter the docket number excluding the last three digits in the docket number field to access the document. For Assistance, call (202)502-8222 or for TTY, (202) 208-1659. Comments, protests and interventions may be filed electronically via the internet in lieu of paper. See, 18 CFR 385.2002(a)(1)(iii) and the instructions on the Commission's web site under the “e-filing” link. The Commission strongly encourages electronic filings.

For further information, contact William Guey-Lee at (202) 219-2808.

Linwood A. Watson, Jr.,
Deputy Secretary.

[FR Doc. 02-22884 Filed 9-9-02; 8:45 am]

BILLING CODE 6717-01-P